DEPARTMENT of TRANSPORTATION

Federal Aviation Administration

14 CFR Part 25

Airworthiness Standards: Transportation Category Airplanes

CFR Correction

In Title 14 of the Code of Federal Regulations, Parts 1 to 59, revised as of January 1, 2018, on page 218, in § 25.143, paragraph (c)(1) is reinstated to read as follows:

§ 25.143 General.

* * * * *

(c) * * *

(1) At the minimum V2 for takeoff;

* * * * *

[FR Doc. 2018-27860 Filed 12-20-18; 8:45 am]

BILLING CODE 1301-00-D